DEPARTMENT OF THE INTERIOR

Bureau of Indian Affairs

[178A2100DD/AAKC001030/A0A501010.999900 253G; OMB Control Number 1076-0178]

Agency Information Collection Activities: Submission to the Office of Management and Budget for Review and Approval; Native American Business Development Institute (NABDI) Funding Solicitations and Reporting

AGENCY: Bureau of Indian Affairs, Interior.

ACTION: Notice of information collection; request for comment.

SUMMARY: In accordance with the Paperwork Reduction Act of 1995, we, the Bureau of Indian Affairs (BIA) are proposing to renew an information collection.

DATES: Interested persons are invited to submit comments on or before October 30, 2017.

ADDRESSES: Send written comments on this information collection request (ICR) to the Office of Management and Budget's Desk Officer for the Department of the Interior by email at OIRA_Submission@omb.eop.gov; or via facsimile to (202) 395-5806. Please provide a copy of your comments to Mr. Jack Stevens, Division Acting Director, Office of Indian Energy and Economic Development, Assistant Secretary—Indian Affairs, 1849 C Street NW., MS-4152 MIB, Washington, DC 20240; or by email to Jack.Stevens@bia.gov. Please reference OMB Control Number 1076-0178 in the subject line of your comments.

FOR FURTHER INFORMATION CONTACT: To request additional information about this ICR, contact Mr. Jack Stevens by telephone at (202) 208-6764. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on July 26, 2017 (82 FR 34686). No comments were received.

We are again soliciting comments on the proposed ICR that is described below. We are especially interested in public comment addressing the following issues: (1) Is the collection necessary to the proper functions of the BIA; (2) will this information be processed and used in a timely manner; (3) is the estimate of burden accurate; (4) how might the BIA enhance the quality, utility, and clarity of the information to be collected; and (5) how might the BIA minimize the burden of this collection on the respondents, including through the use of information technology.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The Division of Economic Development (DED), within the Office of Indian Energy and Economic Development (IEED), established the Native American Business Development Institute (NABDI) to provide technical assistance funding to federally recognized American Indian Tribes seeking to retain universities and colleges, private consulting firms, non-academic/non-profit entities, or others to prepare studies of economic development opportunities or plans. These studies and plans will empower American Indian Tribes and Tribal businesses to make informed decisions regarding their economic futures. Studies may concern the viability of an economic development project or business or the practicality of a technology a Tribe may choose to pursue. The DED will specifically exclude from consideration proposals for research and development projects, requests for funding of salaries for Tribal government personnel, funding to pay legal fees, and requests for funding for the purchase or lease of structures, machinery, hardware or other capital items. Plans may encompass future periods of five years or more and include one or more economic development factors including but not limited to land and retail use, industrial development, tourism, energy, resource development and transportation.

This is an annual program whose primary objective is to create jobs and foster economic activity within Tribal communities. The DED will administer the program within IEED; and studies and plans as described herein will be sole discretionary projects DED will consider or fund absent a competitive bidding process. When funding is available, DED will solicit proposals for studies and plans. To receive these funds, Tribes may use the contracting mechanism established by Public Law 93-638, the Indian Self-Determination Act or may obtain adjustments to their funding from the Office of Self-Governance. See 25 U.S.C. 450 et seq.

Interested applicants must submit a Tribal resolution requesting funding, a statement of work describing the project for which the study is requested or the scope of the plan envisioned, the identity of the academic institution or other entity the applicant wishes to retain (if known) and a budget indicating the funding amount requested and how it will be spent. The DED expressly retains the authority to reduce or otherwise modify proposed budgets and funding amounts.

Applications for funding will be juried and evaluated on the basis of a proposed project's potential to generate jobs and economic activity on the reservation.

Title of Collection: Native American Business Development Institute (NABDI) Funding Solicitations and Reporting.

OMB Control Number: 1076-0178.

Form Number: None.

Type of Review: Extension without change of currently approved collection.

Respondents/Affected Public: Indian Tribes with trust or restricted land.

Total Estimated Number of Annual Respondents: 20 applicants per year; 20 project participants each year, on average.

Total Estimated Number of Annual Responses: 40.

Estimated Completion Time per Response: 50 hours per application; 1.5 hours per progress report.

Total Estimated Number of Annual Burden Hours: 1,030 hours (1,000 for applications and 30 for final reports).

Respondent's Obligation: Response is required to obtain a benefit.

Frequency of Collection: Once per year for applications and final report.

Total Estimated Annual Nonhour Burden Cost: $0.

An agency may not conduct or sponsor and a person is not required to respond to a collection of information unless it displays a currently valid OMB control number.

The authority for this action is the Paperwork Reduction Act of 1995 (44 U.S.C. 3501 et seq).

Elizabeth K. Appel,
Director, Office of Regulatory Affairs and Collaborative Action—Indian Affairs.

[FR Doc. 2017-20932 Filed 9-28-17; 8:45 am]

BILLING CODE 4337-15-P